DEPARTMENT OF ENERGY

Federal Energy Regulatory Commission

[Project No. 2165-015-Alabama Black Warrior River Project]

Alabama Power Company; Notice of Proposed Revised Restricted Service List for a Programmatic Agreement for Managing Properties Included in or Eligible for Inclusion in The National Register of Historic Places

March 22, 2004.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Alabama State Historic Preservation Officer (hereinafter, SHPO) and the Advisory Council on Historic Preservation (hereinafter, Council) pursuant to the Council's regulations, 36 CFR Part 800, implementing Section 106 of the National Historic Preservation Act, as amended, (16 U.S.C. 470 f), to prepare and execute a programmatic agreement for managing properties included in, or eligible for inclusion in, the National Register of Historic Places at Project No. 2165-015.

The programmatic agreement, when executed by the Commission, the SHPO, and the Council, would satisfy the Commission's Section 106 responsibilities for all individual undertakings carried out in accordance with the license until the license expires or is terminated (36 CFR 800.13[e]). The Commission's responsibilities pursuant to Section 106 for the Black Warrior River Project would be fulfilled through the programmatic agreement, which the Commission proposes to draft in consultation with Alabama Power Company, the licensee for Project No. 2165; the Mississippi Band of Choctaw Indians; the Jena Band of Choctaw Indians; the Chickasaw Nation, the Poarch Band of Creek Indians; the U.S. Forest Service; the U.S. Army Corp of Engineers; and the U.S. Bureau of Indian Affairs. The executed programmatic agreement would be incorporated into any Order issuing a license.

By the letter filed February 3, 2004, Steven Rickerson, Forest Supervisor, requested to be placed on the Restricted Service List for the Black Warrior River Project. For purposes of commenting on the programmatic agreement, we propose to add the following person to the restricted service list for the aforementioned project to represent the interests of the U.S. Forest Service:

Steven Rickerson, Forest Supervisor, National Forests in Alabama, 2946 Chestnut Street, Montgomery, AL 36107.

The addition to the restricted service list is effective immediately.

Magalie R. Salas,
Secretary.

[FR Doc. E4-697 Filed 3-26-04; 8:45 am]

BILLING CODE 6717-01-P